DEPARTMENT OF THE INTERIOR

Fish and Wildlife Service

Hanford Reach National Monument Federal Advisory Committee; Meeting Notice

AGENCY: Fish and Wildlife Service, Interior.

ACTION: Notice; FACA meeting.

SUMMARY: The Hanford Reach National Monument Federal Advisory Committee will conduct its first meeting on Wednesday, June 20, 2001 from 1 to 5:30 pm and Thursday, June 21, from 8 to 9:30 am in the Consolidated Information Center (CIC)/Library, rooms 120 and 120A on the Washington State University, Tri-Cities campus, 2770 University Dr., Richland, WA. The meeting is open to the public and press.

DATES: The meeting will take place Wednesday, June 20, 2001 from 1 to 5:30 pm and Thursday, June 21, from 8 to 9:30 am. Time will be made available for public comments to be heard during the meeting. Written comments received by June 21, 2001, 9:30 am, will be incorporated into the meeting notes. Written comments received after the deadline will be accepted, but will not be incorporated into the meeting notes.

ADDRESSES: Any member of the public wishing to submit written comments may submit them during the meeting or send them to Mr. Greg Hughes, Designated Federal Official for the Hanford Reach National Monument (HRNM) Federal Advisory Committee, Hanford Reach National Monument/Saddle Mountain National Wildlife Refuge, 3250 Port of Benton Blvd., Richland, WA 99352; fax (509) 375-0196. Copies of the draft meeting agenda can be obtained from the Designated Federal Official.

FOR FURTHER INFORMATION CONTACT: Any member of the public wishing further information concerning the meeting should contact Mr. Greg Hughes, Designated Federal Official for the Hanford Reach National Monument (HRNM) FACA; phone (509) 371-1801, fax (509) 375-0196.

SUPPLEMENTARY INFORMATION: During this meeting, the Hanford Reach National Monument Federal Advisory Committee will hold introductions of Committee Members and Alternates, Facilitators, and the Designated Federal Official. Introductory statements will be made by U.S. Department of the Interior Fish and Wildlife Service and U.S. Department of Energy authorities. The Committee will hear informational presentations about Presidential Proclamation #7319, the Advisory Committee Charter, Department of Energy requirements, and National Wildlife Refuge System mandates and organization. Additionally, the Committee will discuss groundrules, selection of a Committee Chair and process design.

Dated: May 24, 2001.
Greg Hughes,
Project Leader, Hanford Reach National Monument.

[FR Doc. 01-13993 Filed 6-4-01; 8:45 am]

BILLING CODE 4310-55-P